DEPARTMENT OF HEALTH AND HUMAN SERVICES

Health Resources and Services Administration

Agency Information Collection Activities: Proposed Collection; Comment Request

In compliance with the requirement for opportunity for public comment on proposed data collection projects (section 3506 (c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer at 301-443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Women's Physical Activity and Healthy Eating Tools Assessment: NEW

The HRSA Office of Women's Health (OWH) developed the Bright Futures for Women's Health and Wellness (BFWHW) Initiative to help expand the scope of women's preventive health activities, particularly related to nutrition and physical activity. An intermediate assessment of the BFWHW health promotion consumer materials related to physical activity and healthy eating will be conducted in order to assess how the BFWHW materials can stimulate a conversation on physical activity and healthy eating during a clinical encounter; inform future BFWHW programming, and add to the peer-reviewed literature regarding women's health and wellness initiatives.

Towards this end, anonymous assessment forms will be used to collect data from young and adult women clients, health care providers, and administrators of health centers. Data collected will include process and outcome measures. Data domains include: The distribution and use of the materials in the health care setting during wellness and health maintenance/check-up visits; client and provider awareness of physical activity and nutrition behaviors; attitudes about the importance of physical activity and nutrition; self-efficacy; and increase in knowledge and intent to change physical activity and nutrition behaviors.

A total of six organizations, which may include Federally Qualified Health Centers/Community Health Centers, faith-based organizations that offer health care services, worksite health centers, and school-based health clinics, will be selected for the study. Young women will complete anonymous assessment forms at school-based health centers; adult women will be assessed at other health care organizations. The providers at these sites will also be asked to complete a brief one-time anonymous assessment form. Telephone interviews will be conducted with an administrator of each of these sites as well. The data collection period at each site is estimated to last four months. The estimated response burden is as follows:

Estimated Data Collection Burden Hours
Data collection activity | Number of respondents | Hours per response | Responses per respondent | Total burden hours | Hourly wage rate | Total cost
Clients | 3,000 | 1.00 | 1 | 3,000 | $5.15 | $15,450.00
Administrators | 6 | 4.25 | 1 | 25.50 | 37.09 | 945.80
Support Staff | 6 | 64.00 | 1 | 384 | 13.65 | 5,241.60
Providers | 60 | 6.00 | 1 | 360 | 59.15 | 21,294.00
Total | 3,072 |  |  | 3,769.5 |  | $42,931.40

Send comments to Susan G. Queen, Ph.D., HRSA Reports Clearance Officer, Room 10-33, Parklawn Building, 5600 Fishers Lane, Rockville, MD 20857. Written comments should be received within 60 days of this notice.

Dated: January 29, 2007.
Caroline Lewis,
Acting Associate Administrator for, Administration and Financial Management.

[FR Doc. E7-1841 Filed 2-5-07; 8:45 am]

BILLING CODE 4165-15-P